DEPARTMENT OF COMMERCE

Foreign-Trade Zones Board

[Order No. 1802]

Voluntary Termination of Foreign-Trade Subzone 84S Academy Sports and Outdoors, Katy and Brookshire, TX

Pursuant to the authority granted in the Foreign-Trade Zones Act of June 18, 1934, as amended (19 U.S.C. 81a-81u), and the Foreign-Trade Zones Board Regulations (15 CFR part 400), the Foreign-Trade Zones Board has adopted the following order:

Whereas, on April 30, 2007, the Foreign-Trade Zones Board issued a grant of authority to the Port of Houston Authority (grantee of FTZ 84) authorizing the establishment of Foreign-Trade Subzone 84S at the Academy Sports and Outdoors facilities in Katy and Brookshire, Texas (Board Order 1511, 72 FR 26074, 5/8/07);

Whereas, the Port of Houston Authority has advised that zone procedures are no longer needed at the facilities and requested voluntary termination of Subzone 84S (FTZ Docket 74-2011);

Whereas, the request has been reviewed by the FTZ Staff and Customs and Border Protection officials, and approval has been recommended;

Now, therefore, the Foreign-Trade Zones Board terminates the subzone status of Subzone 84S, effective this date.

Signed at Washington, DC this 16th day of December, 2011.
Paul Piquado,
Assistant Secretary of Commerce for Import Administration, Alternate Chairman, Foreign-Trade Zones Board.
Attest:
Andrew McGilvray,
Executive Secretary.

[FR Doc. 2011-33181 Filed 12-23-11; 8:45 am]

BILLING CODE P